LEGAL SERVICES CORPORATION

Notice of Intent To Award—Grant Awards for the Provision of Civil Legal Services to Eligible Low-Income Clients Beginning January 1, 2004

AGENCY: Legal Services Corporation.

ACTION: Announcement of intention to make FY 2004 Competitive Grant Awards.

SUMMARY: The Legal Services Corporation (LSC) hereby announces its intention to award grants and contracts to provide economical and effective delivery of high quality civil legal services to eligible low-income clients, beginning January 1, 2004.

DATES: All comments and recommendations must be received on or before the close of business on October 15, 2003.

ADDRESS: Legal Services Corporation—Competitive Grants, Legal Services Corporation; 3333 K Street, NW., Third Floor; Washington, DC 20007.

FOR FURTHER INFORMATION CONTACT: Reginald Haley, Office of Program Performance, (202) 295-1545.

SUPPLEMENTARY INFORMATION: Pursuant to LSC's announcement of funding availability on April 18, 2003 (68 FR 19230), and Grant Renewal applications due on August 11, 2003, LSC intends to award funds to the following organizations to provide civil legal services in the indicated service areas. Amounts are subject to change.

Service area | Applicant name | Grant amount
Alabama:
AL-1 | Legal Services Corporation of Alabama, Inc. | 4,586,934
AL-2 | Legal Services of North-Central Alabama, Inc. | 553,475
AL-3 | Legal Services of Metro Birmingham, Inc. | 919,879
MAL | Texas Rural Legal Aid, Inc. | 29,572
Alaska:
AK-1 | Alaska Legal Services Corporation | 668,452
NAK-1 | Alaska Legal Services Corporation | 486,658
American Samoa:
AS-1 | Uunai Legal Services Clinic | 305,089
Arizona:
AZ-2 | DNA-Peoples Legal Services, Inc. | 516,782
AZ-3 | Community Legal Services, Inc. | 3,501,239
AZ-5 | Southern Arizona Legal Aid, Inc. | 1,688,675
MAZ | Community Legal Services, Inc. | 133,441
NAZ-5 | DNA-Peoples Legal Services, Inc. | 2,348,146
NAZ-6 | Southern Arizona Legal Aid, Inc. | 573,584
Arkansas:
AR-6 | Legal Aid of Arkansas, Inc. | 1,435,222
AR-7 | Center for Arkansas Legal Services | 2,129,854
MAR | Texas Rural Legal Aid, Inc. | 71,039
California:
CA-1 | California Indian Legal Services, Inc. | 30,535
CA-2 | Greater Bakersfield Legal Assistance, Inc. | 848,324
CA-12 | Inland Counties Legal Services, Inc. | 3,769,285
CA-14 | Legal Aid Society of San Diego, Inc. | 2,635,806
CA-19 | Legal Aid Society of Orange County, Inc. | 3,681,511
CA-26 | Central California Legal Services | 2,654,071
CA-27 | Legal Services of Northern California, Inc. | 3,279,525
CA-28 | Bay Area Legal Aid | 3,866,187
CA-29 | Legal Aid Foundation of Los Angeles | 7,330,091
CA-30 | Neighborhood Legal Svcs. of Los Angeles County | 4,329,818
CA-31 | California Rural Legal Assistance, Inc. | 4,326,942
MCA | California Rural Legal Assistance, Inc. | 2,372,598
NCA-1 | California Indian Legal Services, Inc. | 795,016
Colorado:
CO-6 | Colorado Legal Services | 3,132,985
MCO | Colorado Legal Services | 133,483
NCO-1 | Colorado Legal Services | 86,419
Connecticut:
CT-1 | Statewide Legal Services of Connecticut, Inc. | 2,142,513
NCT-1 | Pine Tree Legal Assistance, Inc. | 14,088
Delaware:
DE-1 | Legal Services Corporation of Delaware, Inc. | 558,813
MDE | Legal Aid Bureau, Inc. | 22,314
District of Columbia:
DC-1 | Neighborhood Legal Services Program of DC | 910,335
Florida:
FL-5 | Legal Services of Greater Miami, Inc. | 3,211,290
FL-13 | Legal Services of North Florida, Inc. | 1,328,179
FL-14 | Three Rivers Legal Services, Inc. | 1,613,837
FL-15 | Central Florida Legal Services, Inc. | 2,785,758
FL-16 | Bay Area Legal Services, Inc. | 2,363,728
FL-17 | Florida Rural Legal Services, Inc. | 2,448,473
FL-18 | Coast to Coast Legal Aid of South Florida, Inc. | 1,673,154
MFL | Florida Rural Legal Services, Inc. | 812,347
Georgia:
GA-1 | Atlanta Legal Aid Society, Inc. | 2,327,539
GA-2 | Georgia Legal Services Program | 5,914,583
MGA | Georgia Legal Services Program | 352,379
Guam:
GU-1 | Guam Legal Services Corporation | 289,246
Hawaii:
HI-1 | Legal Aid Society of Hawaii | 1,188,748
MHI | Legal Aid Society of Hawaii | 61,936
NHI-1 | Native Hawaiian Legal Corporation | 206,129
Idaho:
ID-1 | Idaho Legal Aid Services, Inc. | 1,068,500
MID | Idaho Legal Aid Services, Inc. | 167,992
NID-1 | Idaho Legal Aid Services, Inc. | 58,462
Illinois:
IL-3 | Land of Lincoln Legal Assistance Foundation, Inc. | 2,495,556
IL-6 | Legal Assistance Foundation of Metro. Chicago | 5,980,989
IL-7 | Prairie State Legal Services, Inc. | 2,508,135
MIL | Legal Assistance Foundation of Metro. Chicago | 224,358
Indiana:
IN-5 | Indiana Legal Services, Inc. | 4,747,833
MIN | Indiana Legal Services, Inc. | 102,190
Iowa:
IA-3 | Iowa Legal Aid | 2,394,186
MIA | Iowa Legal Aid | 33,911
Kansas:
KS-1 | Kansas Legal Services, Inc. | 2,270,247
MKS | Kansas Legal Services, Inc. | 10,683
Kentucky:
KY-2 | Legal Aid Society | 1,143,844
KY-5 | Appalachian Research and Defense Fund of KY | 1,991,488
KY-9 | Cumberland Trace Legal Services, Inc. | 1,187,982
KY-10 | Legal Aid of the Blue Grass | 1,223,597
MKY | Texas Rural Legal Aid, Inc. | 38,251
Louisiana:
LA-1 | Capital Area Legal Services Corporation | 1,381,598
LA-10 | Acadiana Legal Service Corporation | 2,004,069
LA-11 | Legal Services of North Louisiana, Inc. | 1,891,560
LA-12 | Southeast Louisiana Legal Services Corporation | 2,497,451
MLA | Texas Rural Legal Aid, Inc. | 24,749
Maine:
ME-1 | Pine Tree Legal Assistance, Inc. | 1,063,399
MMX-1 | Pine Tree Legal Assistance, Inc. | 112,250
NME-1 | Pine Tree Legal Assistance, Inc. | 58,000
Maryland:
MD-1 | Legal Aid Bureau, Inc. | 3,565,245
MMD | Legal Aid Bureau, Inc. | 81,714
Massachusetts:
MA-1 | Volunteer Lawyers Project of the Boston Bar Assoc. | 1,635,934
MA-2 | South Middlesex Legal Services, Inc. | 194,238
MA-3 | Legal Services for Cape Cod and Islands, Inc. | 229,080
MA-4 | Merrimack Valley Legal Services, Inc. | 754,434
MA-5 | New Center for Legal Advocacy, Inc. | 591,269
MA-10 | Massachusetts Justice Project, Inc. | 1,355,767
Michigan:
MI-9 | Legal Services of Northern Michigan, Inc. | 735,345
MI-12 | Legal Services of South Central Michigan, Inc. | 1,279,155
MI-13 | Legal Aid and Defender Association, Inc. | 3,893,504
MI-14 | Legal Services of Eastern Michigan | 1,446,629
MI-15 | Western Michigan Legal Services | 1,600,045
MMI | Legal Services of South Central Michigan, Inc. | 541,005
NMI-1 | Michigan Indian Legal Services, Inc. | 148,132
Micronesia:
MP-1 | Micronesian Legal Services, Inc. | 1,482,449
Minnesota:
MN-1 | Legal Aid Service of Northeastern Minnesota | 435,316
MN-2 | Judicare of Anoka County, Inc. | 102,516
MN-3 | Central Minnesota Legal Services, Inc. | 1,188,374
MN-4 | Legal Services of Northwest Minnesota Corporation | 411,185
MN-5 | Southern Minnesota Regional Legal Services, Inc. | 1,183,004
MMN | Southern Minnesota Regional Legal Services, Inc. | 179,823
NMN-1 | Anishinabe Legal Services, Inc. | 215,049
Mississippi:
MS-9 | North Mississippi Rural Legal Services, Inc. | 2,030,565
MS-10 | Southeast Mississippi Legal Services Corporation | 2,977,787
NMS-1 | Southeast Mississippi Legal Services Corporation | 74,802
MMS | Texas Rural Legal Aid, Inc. | 51,294
Missouri:
MO-3 | Legal Aid of Western Missouri | 1,692,000
MO-4 | Legal Services of Eastern Missouri, Inc. | 1,819,872
MO-5 | Mid-Missouri Legal Services Corporation | 358,791
MO-7 | Legal Services of Southern Missouri | 1,626,256
MMO | Legal Aid of Western Missouri | 73,218
Montana:
MT-1 | Montana Legal Services Association | 1,033,488
MMT | Montana Legal Services Association | 49,058
NMT-1 | Montana Legal Services Association | 143,282
Nebraska:
NE-4 | Nebraska Legal Services | 1,383,524
MNE | Nebraska Legal Services | 38,001
NNE-1 | Nebraska Legal Services | 29,745
Nevada:
NV-1 | Nevada Legal Services, Inc. | 1,707,713
MNV | Nevada Legal Services, Inc. | 2,261
NNV-1 | Nevada Legal Services, Inc. | 119,658
New Hampshire:
NH-1 | Legal Advice & Referral Center, Inc. | 643,927
New Jersey:
NJ-8 | Essex-Newark Legal Services Project, Inc. | 977,067
NJ-12 | Ocean-Monmouth Legal Services, Inc. | 598,452
NJ-15 | Legal Services of Northwest New Jersey | 353,077
NJ-16 | South Jersey Legal Services | 1,201,974
NJ-17 | Central New Jersey Legal Services | 981,100
NJ-18 | Northeast New Jersey Legal Services Corporation | 1,596,611
MNJ | South Jersey Legal Services | 108,451
New Mexico:
NM-1 | DNA-Peoples Legal Services, Inc. | 207,456
NM-5 | New Mexico Legal Aid | 2,461,013
MNM | New Mexico Legal Aid | 78,496
NNM-2 | DNA-Peoples Legal Services, Inc. | 20,444
NNM-4 | New Mexico Legal Aid | 418,110
New York:
NY-7 | Nassau/Suffolk Law Services Committee, Inc. | 1,250,160
NY-9 | Legal Services for New York City | 13,723,509
NY-20 | Westchester/Putnam Legal Services, Inc. | 1,608,100
NY-21 | Legal Aid Society of Northeastern New York, Inc. | 1,227,241
NY-22 | Legal Aid Society of Mid-New York, Inc. | 1,593,466
NY-23 | Monroe County Legal Assistance Corporation | 1,578,523
NY-24 | Neighborhood Legal Services, Inc. | 1,257,698
MNY | Legal Aid Society of Mid-New York, Inc. | 248,783
North Carolina:
NC-5 | Legal Aid of North Carolina, Inc. | 7,488,231
MNC | Legal Aid of North Carolina, Inc. | 481,704
NNC-1 | Legal Aid of North Carolina, Inc. | 196,391
North Dakota:
ND-3 | Legal Assistance of North Dakota, Inc. | 590,476
MND | Southern Minnesota Regional Legal Services, Inc. | 104,177
NND-3 | Legal Assistance of North Dakota, Inc. | 242,398
Ohio:
OH-5 | The Legal Aid Society of Columbus | 1,187,263
OH-17 | Ohio State Legal Services | 1,735,703
OH-18 | Legal Aid Society of Greater Cincinnati | 1,342,879
OH-19 | Legal Services of Northwest Ohio, Inc. | 1,357,472
OH-20 | Community Legal Aid Services, Inc. | 1,862,159
OH-21 | The Legal Aid Society of Cleveland | 2,052,947
OH-22 | Legal Services of Northwest Ohio, Inc. | 1,057,050
MOH | Legal Services of Northwest Ohio, Inc. | 113,214
Oklahoma:
OK-3 | Legal Aid Services of Oklahoma, Inc. | 4,229,817
MOK | Legal Aid Services of Oklahoma, Inc. | 56,241
NOK-1 | Oklahoma Indian Legal Services, Inc. | 736,795
Oregon:
OR-2 | Lane County Legal Aid Service, Inc. | 319,790
OR-4 | Marion-Polk Legal Aid Service, Inc. | 315,217
OR-5 | Legal Aid Services of Oregon | 2,096,165
MOR | Legal Aid Services of Oregon | 500,643
NOR-1 | Legal Aid Services of Oregon | 166,115
Pennsylvania:
PA-1 | Philadelphia Legal Assistance Center | 2,758,464
PA-5 | Laurel Legal Services, Inc. | 773,633
PA-8 | Neighborhood Legal Services Association | 1,625,007
PA-11 | Southwestern Pennsylvania Legal Services, Inc. | 573,924
PA-23 | Legal Aid of Southeastern Pennsylvania | 1,012,891
PA-24 | North Penn Legal Services, Inc. | 1,615,791
PA-25 | MidPenn Legal Services, Inc. | 1,976,732
PA-26 | Northwestern Legal Services | 710,221
MPA | Philadelphia Legal Assistance Center | 148,962
Puerto Rico:
PR-1 | Puerto Rico Legal Services, Inc. | 16,044,957
PR-2 | Community Law Office, Inc. | 319,868
MPR | Puerto Rico Legal Services, Inc. | 261,311
Rhode Island:
RI-1 | Rhode Island Legal Services, Inc. | 1,000,596
South Carolina:
SC-8 | The South Carolina Centers for Equal Justice | 4,376,965
MSC | The South Carolina Centers for Equal Justice | 177,777
South Dakota:
SD-2 | East River Legal Services | 410,118
SD-4 | Dakota Plains Legal Services, Inc. | 453,277
MSD | Dakota Plains Legal Services, Inc. | 3,567
NSD-1 | Dakota Plains Legal Services, Inc. | 840,201
Tennessee:
TN-4 | Memphis Area Legal Services, Inc. | 1,360,682
TN-7 | West Tennessee Legal Services, Inc. | 641,435
TN-9 | Legal Aid of East Tennessee | 1,994,954
TN-10 | LAS of Middle Tennessee and the Cumberlands | 2,327,075
MTN | Texas Rural Legal Aid, Inc. | 57,006
Texas:
TX-13 | Lone Star Legal Aid | 8,643,377
TX-14 | Legal Aid of NorthWest Texas | 6,801,091
TX-15 | Texas Rural Legal Aid, Inc. | 9,459,304
MTX | Texas Rural Legal Aid, Inc. | 1,248,431
NTX-1 | Texas Rural Legal Aid, Inc. | 28,163
Utah:
UT-1 | Utah Legal Services, Inc. | 1,654,356
MUT | Utah Legal Services, Inc. | 60,963
NUT-1 | Utah Legal Services, Inc. | 74,032
Vermont:
VT-1 | Legal Services Law Line of Vermont, Inc. | 458,078
Virgin Islands:
VI-1 | Legal Services of the Virgin Islands, Inc. | 293,332
Virginia:
VA-15 | Southwest Virginia Legal Aid Society, Inc. | 807,192
VA-16 | Legal Services of Eastern Virginia, Inc. | 1,297,725
VA-17 | Virginia Legal Aid Society, Inc. | 787,802
VA-18 | Central Virginia Legal Aid Society, Inc. | 905,056
VA-19 | Blue Ridge Legal Services, Inc. | 638,573
VA-20 | Potomac Legal Aid Society, Inc. | 994,376
MVA | Central Virginia Legal Aid Society, Inc. | 141,755
Washington:
WA-1 | Northwest Justice Project | 4,434,943
MWA | Northwest Justice Project | 656,031
NWA-1 | Northwest Justice Project | 256,341
West Virginia:
WV-5 | Legal Aid of West Virginia, Inc. | 2,799,844
MWV | Legal Aid of West Virginia, Inc. | 32,855
Wisconsin:
WI-2 | Wisconsin Judicare, Inc. | 928,858
WI-5 | Legal Action of Wisconsin, Inc. | 3,107,131
MWI | Legal Action of Wisconsin, Inc. | 81,831
NWI-1 | Wisconsin Judicare, Inc. | 139,588
Wyoming:
WY-4 | Wyoming Legal Services, Inc. | 447,104
MWY | Wyoming Legal Services, Inc. | 11,182
NWY-1 | Wyoming Legal Services, Inc. | 155,499

These grants and contracts will be awarded under the authority conferred on LSC by the Legal Services Corporation Act, as amended (42 U.S.C. 2996e(a)(1)). Awards will be made so that each service area is served, although none of the listed organizations are guaranteed an award or contract. This public notice is issued pursuant to the LSC Act (42 U.S.C. 2996f(f)), with a request for comments and recommendations concerning the potential grantees within a period of thirty (30) days from the date of publication of this notice. Grants will become effective and grant funds will be distributed on or about January 1, 2004.

Dated: September 8, 2003.
Michael A. Genz,
Director, Office of Program Performance, Legal Services Corporation.

[FR Doc. 03-23305 Filed 9-12-03; 8:45 am]

BILLING CODE 7050-01-P